DEPARTMENT OF JUSTICE

Antitrust Division

Notice Pursuant to the National Cooperative Research and Production Act of 1993—DVD Copy Control Association (“DVD CCA”)

Notice is hereby given that, on January 6, 2003, pursuant to Section 6(a) of the National Cooperative Research and Production Act of 1993, 15 U.S.C. 4301 et seq. (“the Act”), DVD Copy Control Association (“DVD CCA”) has filed written notifications simultaneously with the Attorney General and the Federal Trade Commission disclosing changes in its membership status. The notifications were filed for the purpose of extending the Act's provisions limiting the recovery of antitrust plaintiffs to actual damages under specified circumstances. Specifically, Amusewell Technology Corp., Taipei, TAIWAN; Cheertek Inc., Hsinchu, TAIWAN; Concord Disc Manufacturing Corp., Anaheim, CA; Daesung Eltec Co., Ltd., Seoul, REPUBLIC OF KOREA; Dai Hwa Industrial Co., Ltd., Chungli, TAIWAN; Elegent Technologies Inc., Fremont, CA; Force NO A/S, Oslo, NORWAY; Hertz Engineering Co., Ltd., Tokyo, JAPAN; Hyundai Autonet Co., Ltd., Kyoungki-do, REPUBLIC OF KOREA; Jeong Moon Information Co., Ltd., Kyeongki-do, REPUBLIC OF KOREA; Nakamichi Corporation, Tokyo, JAPAN; Profilo Telra Elektronik San. Ve Tic. A.S., Istanbul, TURKEY; Soft4D Co., Ltd., Seoul, REPUBLIC OF KOREA; Taijin Media Co., Ltd., Seoul, REPUBLIC OF KOREA; and Ulead Systems, Inc., Taipei, TAIWAN have been added as parties to this venture. The following member has changed its name: Singhale Development Limited to Starlight Video Limited, Hong Kong, HONG KONG-CHINA.

Also, Edge Electronics, Inc., Ronkonkoma, NY; Hibino Corporation, Tokyo, JAPAN; and Winbond Electronics Corp., Hsinchu, TAIWAN have been dropped as parties to this venture.

No other changes have been made in either the membership or planned activity of the group research project. Membership in this group research project remains open, and DVD CCA intends to file additional written notification disclosing all changes in membership.

On April 11, 2001, DVD CCA filed its original notification pursuant to Section 6(a) of the Act. The Department of Justice published a notice in the Federal Register pursuant to Section 6(b) of the Act on August 3, 2001 (66 FR 40727).

The last notification was filed with the Department on October 8, 2002. A notice was published in the Federal Register pursuant to Section 6(b) of the Act on December 5, 2002 (67 FR 72428).

Constance K. Robinson,
Director of Operations, Antitrust Division.

[FR Doc. 03-3295 Filed 2-10-03; 8:45 am]

BILLING CODE 4410-11-M